DEPARTMENT OF TRANSPORTATION

Office of the Secretary

Notice of Applications for Certificates of Public Convenience and Necessity and Foreign Air Carrier Permits Filed Under Subpart B (Formerly Subpart Q) During the Week Ending May 27, 2005

The following Applications for Certificates of Public Convenience and Necessity and Foreign Air Carrier Permits were filed under subpart B (formerly subpart Q) of the Department of Transportation's Procedural Regulations (see 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number OST-2005-21348.

Date Filed May 26, 2005.

Due Date for Answers, Conforming Applications, or Motion to Modify Scope June 16, 2005.

Description

Application of Gulfstream Air Charter, Inc. requesting authority to operate scheduled passenger service as a commuter air carrier.

Maria Gulczewski,
Acting Program Manager, Docket Operations, Alternate Federal Register Liaison.

[FR Doc. 05-11536 Filed 6-9-05; 8:45 am]

BILLING CODE 4910-62-P